DEPARTMENT OF HOUSING AND URBAN DEVELOPMENT

24 CFR Parts 5 and 960

[Docket No. FR-6057-C-04]

RIN 2577-AD03

Housing Opportunity Through Modernization Act of 2016: Implementation of Sections 102, 103, and 104; Correction

AGENCY: Office of General Counsel, Department of Housing and Urban Development (HUD).

ACTION: Final rule; correction.

SUMMARY: The Department of Housing and Urban Development is correcting a final rule entitled “Housing Opportunity Through Modernization Act of 2016: Implementation of Sections 102, 103, and 104” that published on February 14, 2023.

DATES: Effective date: The correction to § 5.603 is effective January 1, 2024, and the correction to § 960.509 is effective March 16, 2023.

FOR FURTHER INFORMATION CONTACT: For information regarding this correction, contact Aaron Santa Anna, Associate General Counsel for Legislation and Regulations, Department of Housing and Urban Development, 451 7th Street SW, Room 10238, Washington, DC 20410; telephone number 202-708-1793 (this is not a toll-free number). HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: On February 14, 2023 (88 FR 9600) (FR Doc. 2023-01617), HUD published a final rule implementing sections 102, 103, and 104 of the Housing Opportunity Through Modernization Act of 2016 (HOTMA) (Pub. L. 114-201, 130 Stat. 782). In addition to amending regulations for HUD's public housing, Section 8 programs, and multifamily HUD programs including Section 202 and Section 811, the rule also amends HUD's Community Development Block Grant (CDBG), HOME Investment Partnerships (HOME), Housing Trust Fund (HTF), and Housing Opportunities for Persons with AIDS (HOPWA) programs to implement statutory changes made by HOTMA. Among other changes, HUD's February 14, 2023, final rule amended the definition of “dependent” at § 5.603. The final rule also added a new section, § 960.509, Lease requirements for nonpublic housing over-income families.

In reviewing the February 14, 2013, final rule, HUD identified two inadvertent errors, one in an amendatory instruction related to the revision of § 5.603, and the second in the regulatory text related to the addition of § 960.509. Initially, in amendatory instruction 10, HUD states that it is revising several definitions. The amendatory instruction, however, failed to include direction to revise the definition for “dependent”. HUD's preamble text discusses this revised definition and the regulatory text for § 5.603 included the revised definition.

Second, § 960.509(b)(6) incorrectly contains two paragraphs designated “(b)(6)(xii)”. The second paragraph designated “(b)(6)(xii)” is incorrectly designated and should be designated “(b)(6)(xiii)”.

Correction

Accordingly, FR Doc. 2023-01617, “Housing Opportunity Through Modernization Act of 2016: Implementation of Sections 102, 103, and 104,” published on February 14, 2023 (88 FR 9600) is corrected as follows:

§ 5.603 [Corrected]

1. Effective January 1, 2024, on page 9656, in the first column, amendatory instruction 10 for § 5.603 is corrected to read as follows:

10. Effective January 1, 2024, amend § 5.603(b) by:

a. Adding in alphabetical order the definition for “Day laborer”;

b. Revising the definition of “Dependent”;

c. Adding in alphabetical order the definitions for “Foster adult”, “Foster child”, “Health and medical care expenses”, “Independent contractor”, and “Minor”;

d. Revising the definitions for “Net family assets” and “Responsible entity”; and

e. Adding in alphabetical order the definition of “Seasonal worker”.

The additions and revisions read as follows:

§ 960.509 [Corrected]

2. Effective March 16, 2023, on page 9673, in the third column, in § 960.509, the second paragraph (b)(6)(xii) is redesignated as paragraph (b)(6)(xiii).

Aaron Santa Anna,
Associate General Counsel for Legislation and Regulations.

[FR Doc. 2023-03965 Filed 2-27-23; 8:45 am]

BILLING CODE 4210-67-P